DEPARTMENT OF DEFENSE

Department of the Air Force

Privacy Act of 1974; System of Records

AGENCY: Department of the Air Force, DoD.

ACTION: Notice to delete systems of records; F031 DOD A-Joint Personnel Adjudication System (JPAS).

SUMMARY: The Department of the Air Force is deleting an exempt system of records notice from its existing inventory of records systems subject to the Privacy Act of 1974, (5 U.S.C. 552a), as amended. The system of records, F031 DoD A, entitled Joint Personnel Adjudication System (JPAS), was transferred to the Defense Security Service and assigned the system identifier V5-05, entitled Joint Personnel Adjudication System (JPAS) and was published in the Federal Register on July 1, 2005 (70 FR 38120).

DATES: Effective August 10, 2005.

ADDRESSES: Department of the Air Force, ATTN: SAF/XCISI, 1800 Air Force Pentagon, Washington, DC 20330-1800.

FOR FURTHER INFORMATION CONTACT: Ms. Novella Hill at (703) 588-7855.

SUPPLEMENTARY INFORMATION: The Department of the Air Force systems of records notices subject to the Privacy Act of 1974, (5 U.S.C. 552a), as amended, have been published in the Federal Register and are available from the address above.

The deletion of the system notice from the Department of Air Force's inventory is not within the purview of subsection (r) of the Privacy Act of 1974, (5 U.S.C. 552a), as amended, which requires the submission of a new or altered system report.

Dated: August 4, 2005.
Jeannette Owings-Ballard,
OSD Federal Register Liaison Officer, Department of Defense.

F031 DOD A

System name:

Joint Personnel Adjudication System (JPAS) (November 29, 2002, 67 FR 71152).

Reason:

The system of records was transferred to the Defense Security Service, and was assigned the system identifier V5-05, entitled Joint Personnel Adjudication System (JPAS).

[FR Doc. 05-15786 Filed 8-9-05; 8:45 am]

BILLING CODE 5001-06-P